FEDERAL DEPOSIT INSURANCE CORPORATION

Privacy Act of 1974; System of Records

AGENCY: Federal Deposit Insurance Corporation.

ACTION: Notice to Delete a System of Records.

SUMMARY: In accordance with the requirements of the Privacy Act of 1974, as amended (Privacy Act), the Federal Deposit Insurance Corporation (FDIC) deletes one system of records from its existing inventory of systems of records subject to the Privacy Act.

DATES: Effective Date is July 23, 2012.

FOR FURTHER INFORMATION CONTACT: Gary Jackson, Counsel, FDIC, 550 17th Street NW., Washington, DC 20429, (703) 562-2677.

SUPPLEMENTARY INFORMATION: The FDIC deletes its system of records for the Nationwide Mortgage Licensing System and Registry, 76 FR 15309 (March 21, 2011). Section 1100 of Title X of the Dodd-Frank Wall Street Reform and Consumer Protection Act transferred to the Bureau of Consumer Financial Protection (CFPB) authority to develop and maintain the national registration system for residential mortgage loan originators required by Section 1507 of the Secure and Fair Enforcement for Mortgage Licensing Act. The CFPB published its own notice of the establishment of a Privacy Act system of records for the Nationwide Mortgage Licensing System and Registry, 77 FR 35359 (June 13, 2012), effective as of July 23, 2012.

The deletion is not within the purview of subsection (r) of the Privacy Act, which requires submission of a report on a new or altered system of records. The FDIC's systems of records notices subject to the Privacy Act have been published in the Federal Register and may be viewed at http://www.fdic.gov/regulations/laws/rules/2000-4000.html on the FDIC's Privacy Web page.

By order of the Board of Directors.
Dated at Washington, DC, this 11th day of December 2012.
Robert E. Feldman,
Executive Secretary.

[FR Doc. 2012-30254 Filed 12-17-12; 8:45 am]

BILLING CODE P